DEPARTMENT OF HEALTH AND HUMAN SERVICES

Meeting of the Presidential Advisory Council on HIV/AIDS

AGENCY: Office of the Assistant Secretary for Health, Office of the Secretary, Department of Health and Human Services.

ACTION: Notice.

SUMMARY: As stipulated by the Federal Advisory Committee Act, the U.S. Department of Health and Human Service (DHHS) is hereby giving notice that the Presidential Advisory Council on HIV/AIDS (PACHA) will hold a meeting. The meeting will be open to the public.

DATES: The meeting will be held Tuesday, February 28, 2012 and Wednesday, February 29, 2012. The meeting will be held from 9:30 a.m. to approximately 5 p.m. on Tuesday, February 28, 2012, and from 10 a.m. to approximately 3 p.m. on Wednesday, February 29, 2012.

ADDRESSES: South Court Auditorium, Eisenhower Executive Office Building, Pennsylvania Avenue and 17th Street NW., Washington, DC.

FOR FURTHER INFORMATION CONTACT: Mr. Melvin Joppy, Committee Manager, Presidential Advisory Council on HIV/AIDS, Department of Health and Human Services, 200 Independence Avenue SW., Room 443H, Hubert H. Humphrey Building, Washington, DC 20201; (202) 690-5560. More detailed information about PACHA can be obtained by accessing the Council's Web site, www.pacha.gov.

SUPPLEMENTARY INFORMATION: PACHA was established by Executive Order 12963, dated June 14, 1995, as amended by Executive Order 13009, dated June 14, 1996. The Council was established to provide advice, information, and recommendations to the Secretary regarding programs and policies intended to promote effective prevention of HIV disease and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House Office on National AIDS Policy. The agenda for the upcoming meeting will be posted on the Council's Web site at www.pacha.gov.

This meeting of the PACHA will be on White House property, thus, each person must be screened and cleared by the U.S. Secret Service. Pre-registration for public attendance is mandatory. Please contact: Melvin Joppy, Office of HIV/AIDS Policy (202) 690-5560 or melvin.joppy@hhs.gov. The second day of the meeting, February 29, will be held in a different room within the same venue; space will be limited. For this reason, members of the public will be accommodated on a first come, first serve basis for this portion of the meeting. Mr. Joppy will need your full name, social security number, date of birth, country of origin, gender, and city and state of residence to process public access attendance. Registration must be submitted by close of business Tuesday, February 21, 2012.

Members of the public will have the opportunity to provide comments at the meeting. Any individual who wishes to participate in the public comment session must register with Melvin Joppy at melvin.joppy@hhs.gov; registration for public comment will not be accepted by telephone. Public comment will be limited to two minutes per speaker. It is requested that any members of the public who wish to have printed material distributed to PACHA members at the meeting submit, at a minimum, two copies of the materials to the Committee Manager, PACHA, no later than close of business Tuesday, February 21, 2012. Contact information for the PACHA Committee Manager is listed above.

Dated: February 1, 2012.
Christopher Bates,
Executive Director, Presidential Advisory Council on HIV/AIDS.

[FR Doc. 2012-2707 Filed 2-6-12; 8:45 am]

BILLING CODE 4150-43-P